GENERAL ACCOUNTING OFFICE

Opportunity to “Ride” Printing Order for Volume I of GAO's Principles of Federal Appropriations Law

AGENCY: General Accounting Office.

ACTION: Advance notice of publication.

SUMMARY: The third edition of Volume I of GAO's Principles of Federal Appropriations Law is being prepared for publication by the Government Printing Office (GPO). Government departments, agencies, and other federal organizations that normally require more than one copy must request them through their agencies' account representatives in order to receive the pre-publication rate.

DATES: Rider orders must be received by GPO no later than January 7, 2004.

FOR FURTHER INFORMATION CONTACT: Lydia Koeller, (202) 512-4498.

SUPPLEMENTARY INFORMATION: The General Accounting Office (GAO) will shortly publish Volume I of Principles of Federal Appropriations Law, third edition—also know as “The Red Book.” This publication is part of a multi-volume set intended to present a basic reference work covering those areas of law in which the Comptroller General renders decisions. Our approach is to lay a foundation with text discussion, using specific legal authorities to illustrate the principles discussed, their application, and exceptions. These authorities include GAO decisions and opinions, judicial decisions, statutory provisions, and other relevant sources.

GAO will provide copies of this volume to the heads of federal agencies. Agencies may place advance (rider) orders for additional copies of this volume with their account representatives at the Government Printing Office (GPO).

This notice is not intended to solicit orders from the general public for single copies or small orders of this volume. This publication will be available for purchase from the Superintendent of Documents, United States Printing Office, Washington, DC 20402, at a later time.

Rider orders for Volume I should be placed on Standard Form #1 and should specify GAO Requisition No. 4-00051. Agency orders for Volume I must be received by GPO no later than January 7, 2004. GPO will not accept rider requisitions for Volume I after this date, and agencies will have to purchase additional copies from the Superintendent of Documents. All rider requisitions must be submitted to GPO through each agency's Washington, D.C. headquarters printing procurement office. In compiling an agency's total order, GAO suggests that the needs of legal offices, finance and accounting offices, contracting offices, law libraries, federal depositories, Inspector General and Chief Financial Officer offices, field and regional offices, and any other elements of an agency that might use this publication be considered.

As with the second edition of Principles, we are publishing the third edition in loose-leaf format. We plan four volumes with annual updates. The updates will only be published electronically. Users should retain copies of their five volumes of the second edition until each volume is revised. We will not revise Volume III of the second edition, which we issued in November 1994. Volume III addresses functions that the GAO Act of 1996 transferred to the Executive Branch.

(Authority: 31 U.S.C. 712, 717, 719, 3511, 3526-29.)
Susan Poling,
Associate General Counsel, General Accounting Office.

[FR Doc. 03-30794 Filed 12-11-03; 8:45 am]

BILLING CODE 1610-02-P